DEPARTMENT OF THE INTERIOR

Fish and Wildlife Service

50 CFR Part 17

[Docket Nos. FWS-R8-ES-2012-0100; FWS-R8-ES-2012-0074; 4500030113]

RIN 1018-AZ21; RIN 1018-AY07

Endangered and Threatened Wildlife and Plants; Endangered Status for the Sierra Nevada Yellow-Legged Frog and the Northern Distinct Population Segment of the Mountain Yellow-Legged Frog, and Threatened Status for the Yosemite Toad

AGENCY: Fish and Wildlife Service, Interior.

ACTION: Proposed rule; reopening of the public comment period.

SUMMARY: We, the U.S. Fish and Wildlife Service (Service), announce the reopening of the public comment period on our April 25, 2013, proposed rule to list the Sierra Nevada yellow-legged frog and the northern distinct population segment (DPS) (populations that occur north of the Tehachapi Mountains) of the mountain yellow-legged frog as endangered species, and the Yosemite toad as a threatened species. We are also reopening the public comment period on our April 25, 2013, proposed rule to designate critical habitat for these species. The 60-day comment period for both proposed rules ended on June 24, 2013. This notice announces reopening of the comment periods to allow all interested parties an additional opportunity to comment on the proposed rules and to submit information on the status of the species and proposed critical habitat. We will consider all comments and information provided by the public during these comment periods in preparation of a final determination on our proposed listings and designation of critical habitat. Accordingly, the final decisions may differ from our proposals. If you submitted comments previously, you do not need to resubmit them because we have already incorporated them into the public record and will fully consider them in preparation of the final rules.

DATES: The comment periods for the proposed rules published April 25, 2013, at 78 FR 24472 and 24516, are reopened. We will consider all comments received or postmarked on or before November 18, 2013. Comments submitted electronically using the Federal eRulemaking Portal (see ADDRESSES section, below) must be received by 11:59 p.m. Eastern Time on the closing date.

ADDRESSES: Document availability: You may obtain copies of the proposed rule and related documents on the Internet at http://www.regulations.gov at Docket Number FWS-R8-ES-2012-0100 for the proposed listing and Docket Number FWS-R8-ES-2012-0074 for the proposed critical habitat. You can also obtain copies by mail from the Sacramento Fish and Wildlife Office (see FOR FURTHER INFORMATION CONTACT).

Comment submission: You may submit written comments by one of the following methods:

(1) Electronically: Go to the Federal eRulemaking Portal: http://www.regulations.gov. In the Search box, enter FWS-R8-ES-2012-0100 (the docket number for the proposed listing rule) or FWS-R8-ES-2012-0074 (the docket number for the proposed critical habitat rule). On the search results page, under the Comment Period heading in the menu on the left side of your screen, check the box next to “Open” to locate this document. Please ensure you have found the correct document before submitting your comments. If your comments will fit in the provided comment box, please use this feature of http://www.regulations.gov, as it is most compatible with our comment review procedures. If you attach your comments as a separate document, our preferred file format is Microsoft Word. If you attach multiple comments (such as form letters), our preferred format is a spreadsheet in Microsoft Excel.

(2) By hard copy: Submit by U.S. mail or hand-delivery to: Public Comments Processing, Attn: FWS-R8-ES-2012-0100 (if commenting on the proposed listing rule) or FWS-R8-ES-2012-0074 (if commenting on the proposed critical habitat rule); Division of Policy and Directives Management; U.S. Fish and Wildlife Service; 4401 N. Fairfax Drive, MS 2042-PDM; Arlington, VA 22203.

We request that you send comments only by the methods described above. We will post all information received on http://www.regulations.gov. This generally means that we will post any personal information you provide us (see Request for Information in SUPPLEMENTARY INFORMATION for more information).

FOR FURTHER INFORMATION CONTACT: Jan Knight, Deputy Field Supervisor, Sacramento Fish and Wildlife Office, 2800 Cottage Way, Suite W-2605, Sacramento, CA 95825; telephone 916-414-6600; facsimile 916-414-6712. If you use a telecommunications device for the deaf (TDD), call the Federal Information Relay Service (FIRS) at 800-877-8339.

SUPPLEMENTARY INFORMATION:

Background

On April 25, 2013, we published in the Federal Register a proposed rule to list the Sierra Nevada yellow-legged frog and the northern distinct population segment (DPS) (populations that occur north of the Tehachapi Mountains) of the mountain yellow-legged frog as endangered species, and the Yosemite toad as a threatened species (78 FR 24472). Also on April 25, 2013, we published in the Federal Register a proposed rule to designate critical habitat for these species (78 FR 24516). The 60-day comment period for both proposed rules ended on June 24, 2013.

Information Requested

We are reopening the public comment period for two proposed rules for the Sierra Nevada yellow-legged frog, the northern distinct population segment (DPS) (populations that occur north of the Tehachapi Mountains) of the mountain yellow-legged frog, and the Yosemite toad. We will accept written comments and information during this reopened comment period on our April 25, 2013, proposed rules to list these species (78 FR 24472) and to designate critical habitat (78 FR 24516). For more information on the specific information we are seeking, please see the April 25, 2013, proposed rules.

You may submit your comments and materials concerning the proposed rules by one of the methods listed in ADDRESSES. We will not accept comments sent by email or fax, or to an address not listed in ADDRESSES. If you submit a comment via http://www.regulations.gov, your entire comment—including your personal identifying information—will be posted on the Web site. If you submit a hardcopy comment that includes personal identifying information, you may request at the top of your document that we withhold this information from public review. However, we cannot guarantee that we will be able to do so. We will post all hardcopy comments on http://www.regulations.gov.

Comments previously submitted need not be resubmitted, as they will be fully considered in preparation of the final rules. We intend that any final actions resulting from these proposals be as accurate as possible and based on the best available scientific and commercial data. We will consider information and recommendations from all interested parties. Your comments are part of the public record, and we will fully consider them in the preparation of our final determinations.

Comments and materials we receive, as well as supporting documentation we used in preparing the proposed rule, will be available for public inspection on http://www.regulations.gov, or by appointment, during normal business hours, at the Sacramento Fish and Wildlife Office (see FOR FURTHER INFORMATION CONTACT).

Authority

The authority for this action is the Endangered Species Act of 1973, as amended (16 U.S.C. 1531 et seq.).

Dated: July 9, 2013.
Rowan J. Gould,
Acting Director, U.S. Fish and Wildlife Service.

[FR Doc. 2013-17197 Filed 7-18-13; 8:45 am]

BILLING CODE 4310-55-P